DEPARTMENT OF TRANSPORTATION

Federal Transit Administration

Federal Highway Administration

Designation of Transportation Management Areas

AGENCIES: Federal Transit Administration (FTA), Federal Highway Administration (FHWA), DOT.

ACTION: Supplementary notice of designation.

SUMMARY: The Federal Transit Administration (FTA) and the Federal Highway Administration (FHWA) are modifying their announcement designating Transportation Management Areas (TMAs) issued on July 8, 2002. This action is necessary because in August 2002 the Census Bureau published a list of corrections to their population figures that we used to designate the TMAs. This notice is effective immediately and supersedes the other notice issued on July 8, 2002.

DATES: October 4, 2002.

FOR FURTHER INFORMATION CONTACT: For FTA related questions, Paul L. Verchinski, Office of Planning Operations (TPL-11), (202) 366-1626, Federal Transit Administration, 400 Seventh Street, SW., Washington, DC 20590. e-mail: Paul.verchinski@fta.dot.gov. Scott Biehl, Office of Chief Counsel (TCC), (202) 366-4063, Federal Transit Administration, 400 Seventh Street., SW., Washington, DC 20590. e-mail: scott.biehl@fta.dot.gov. Office hours for the FTA are from 8:30 a.m. to 5 p.m., e.t., Monday through Friday, except Federal holidays.

For FHWA related questions, John Humeston, Office of Metropolitan Planning (HEPM), (404) 562-3667, Federal Highway Administration, 60 Forsyth Street, Suite 8M5; Atlanta, Georgia 30303-3104; e-mail: john.humeston@fhwa.dot.gov. Reid Alsop, Office of Chief Counsel (HCC), (202) 366-1371, Federal Highway Administration, 400 Seventh Street, SW., Washington, DC 20590; e-mail: reid.alsop@fhwa.dot.gov. Office hours are from 7:45 a.m. to 4:15 p.m., e.t., Monday through Friday, except Federal holidays.

SUPPLEMENTARY INFORMATION: Titles 23 and 49 of the United States Code (23 U.S.C. 134 (i), and 49 U.S.C. 5305, respectively) require the Secretary of Transportation to designate urbanized areas over 200,000 population as Transportation Management Areas (TMAs).

The Census Bureau defined the Census 2000 urbanized areas using the criteria published in the Federal Register on March 15, 2002 (67 FR 11663). As a result, there were significant changes in the Census 2000 universe of urbanized areas from those defined, based on the 1990 census and criteria. A detailed description of the terminology and changes noted in the column entitled “Area Comparison to 1990 Census TMAs” is presented in the Census Bureau's notice of “Qualifying Urban Areas for Census 2000” in the Federal Register on May 1, 2002 (67 FR 21961).

On July 8, 2002, the Secretary of Transportation through the FTA and the FHWA, in compliance with the agencies' authorizing statutes, 23 U.S.C. 134 and 49 U.S.C. 5305, published the list of TMAs in the Federal Register (67 FR 45173).

On August 23, 2002, the Census Bureau published a corrected list of urbanized areas and urban clusters in the Federal Register (67 FR 54630). This notice also modified the area of and population of a few urbanized areas and urban clusters by adding small amounts of territory to selected urbanized areas and urban clusters.

As a result of these Census published changes, it became necessary for the FHWA and FTA to amend the list of urbanized areas designated as TMAs. The three changes to the list of TMAs are the merging of San Rafael—Novato, California TMA with the San Francisco—Oakland, California TMA into a larger San Francisco—Oakland, California TMA; the modification of population figures in the Denver “ Aurora, Colorado TMA; and the modification of population figures for the Fort Collins, Colorado TMA. Therefore, this action modifies the list of urbanized areas that are designated as TMAs. This action supersedes the previous list of urbanized areas designated as TMAs issued on July 8, 2002, at 67 FR 45173. This modification includes the Census originated corrections and provides an inclusive list of designated TMAs.

Authority: 23 U.S.C. 315; 23 U.S.C. 134(i), 49 U.S.C. 5305, 49 CFR 1.48 and 1.51.

Issued on: September 30, 2002.
Robert D. Jamison,
Deputy Federal Transit Administrator.
Mary E. Peters,
Federal Highway Administrator.

State/Urbanized Area (UZA) | UZA 2000 population | Area comparison to 1990 census TMAs
Alabama:
Birmingham, AL | 663,615 | No change.
Mobile, AL | 317,605 | No change.
Huntsville, AL | 213,253 | New TMA.
State Total | 1,194,473
Alaska:
Anchorage, AK | 225,744 | Reduced in Geographic Area.
State Total | 225,744
Arizona:
Phoenix-Mesa, AZ | 2,907,049 | No change.
Tucson, AZ | 720,425 | Reduced in Geographic Area.
State Total | 3,627,474
Arkansas:
Little Rock, AR | 360,331 | Name Change.
State Total | 360,331
California:
Los Angeles-Long Beach-Santa Ana, CA | 11,789,487 | TMA formed by UA split.
San Francisco-Oakland, CA | 3,228,605 | Increased in Geographic Area.
San Diego, CA | 2,674,436 | No change.
San Jose, CA | 1,538,312 | Reduced in Geographic Area.
Riverside-San Bernardino, CA | 1,506,816 | No change.
Sacramento, CA | 1,393,498 | No change.
Fresno, CA | 554,923 | No change.
Concord, CA | 552,624 | TMA formed by UA split.
Mission Viejo, CA | 533,015 | TMA formed by UA split.
Bakersfield, CA | 396,125 | No change.
Oxnard, CA | 337,591 | TMA formed by UA split.
Stockton, CA | 313,392 | No change.
Modesto, CA | 310,945 | No change.
Santa Rosa, CA | 285,408 | New TMA.
Lancaster-Palmdale, CA | 263,532 | New TMA.
Indio-Cathedral City-Palm Springs, CA | 254,856 | TMA formed by UA merger with Name Change.
Temecula-Murrieta, CA | 229,810 | No change.
Antioch, CA | 217,591 | New TMA with Name Change.
Thousand Oaks, CA | 210,990 | TMA formed by UA split.
Victorville-Hesperia-Apple Valley, CA | 200,436 | New TMA with Name Change.
State Total | 26,792,392
Colorado:
Denver-Aurora, CO | 1,984,889 | Name Change.
Colorado Springs, CO | 466,122 | No change.
Fort Collins, CO | 206,757 | New TMA.
State Total | 2,657,768
Connecticut:
Bridgeport-Stamford, CT-NY | 888,890 | TMA formed by UA merger with Name Change.
Hartford, CT | 851,535 | TMA formed by UA merger with Name Change.
New Haven, CT | 531,314 | Name Change.
State Total | 2,271,739
Delaware:
State Total |
District of Columbia:
Washington, DC-VA-MD | 3,933,920 | Name Change.
State Total | 3,933,920
Florida:
Miami, FL | 4,919,036 | TMA formed by UA merger with Name Change.
Tampa-St. Petersburg, FL | 2,062,339 | Name Change.
Orlando, FL | 1,157,431 | Reduced in Geographic Area.
Jacksonville, FL | 882,295 | No change.
Sarasota-Bradenton, FL | 559,229 | No change.
Palm Bay-Melbourne, FL | 393,289 | No change.
Cape Coral, FL | 329,757 | Name Change.
Pensacola, FL-AL | 323,783 | Name Change.
Port St. Lucie, FL | 270,774 | TMA formed by UA merger with Name Change.
Daytona Beach-Port Orange, FL | 255,353 | Name Change.
Bonita Springs-Naples, FL | 221,251 | New TMA with Name Change.
Tallahassee, FL | 204,260 | New TMA.
State Total | 11,578,797
Georgia:
Atlanta, GA | 3,499,840 | No change:
Augusta-Richmond County, GA-SC | 335,630 | Name Change.
Columbus, GA-AL | 242,324 | No change.
Savannah, GA | 208,886 | New TMA, Reduced in Geographic Area.
State Total | 4,286,680
Hawaii:
Honolulu, HI | 718,182 | No change.
State Total | 718,182
Idaho:
Boise City, ID | 272,625 | New TMA.
State Total | 272,625
Illinois:
Chicago, IL-IN | 8,307,904 | TMA formed by UA merger with Name Change.
Rockford, IL | 270,414 | Increased in Geographic Area.
Peoria, IL | 247,172 | No change.
Round Lake Beach-McHenry-Grayslake, IL-WI | 226,848 | New TMA.
State Total | 9,052,338
Indiana:
Indianapolis, IN | 1,218,919 | No change.
Fort Wayne, IN | 287,759 | No change.
South Bend, IN-MI | 276,498 | Name Change.
Evansville, IN—KY | 211,989 | New TMA.
State Total | 1,995,165
Iowa:
Des Moines, IA | 370,505 | No change.
Davenport, IA-IL | 270,626 | Name Change.
State Total | 641,131
Kansas:
Wichita, KS | 422,301 | No change.
State Total | 422,301
Kentucky:
Louisville, KY-IN | 863,582 | No change.
Lexington-Fayette, KY | 250,994 | No change.
State Total | 1,114,576
Louisiana:
New Orleans, LA | 1,009,283 | No change.
Baton Rouge, LA | 479,019 | No change.
Shreveport, LA | 275,213 | No change.
State Total | 1,763,515
Maine:
State Total |
Maryland:
Baltimore | 2,076,354 | TMA formed by UA merger with Name Change.
State Total | 2,076,354
Massachusetts:
Boston, MA-NH-RI | 4,032,484 | TMA formed by UA merger with Name Change.
Springfield, MA-CT | 573,610 | No change.
Worcester, MA-CT | 429,882 | No change.
Barnstable Town, MA | 243,667 | New TMA.
State Total | 5,279,643
Michigan:
Detroit, MI | 3,903,377 | No change.
Grand Rapids, MI | 539,080 | No change.
Flint, MI | 365,096 | No change.
Lansing, MI | 300,032 | Name Change.
Ann Arbor, MI | 283,904 | No change.
State Total | 5,391,489
Minnesota:
Minneapolis-St. Paul, MN | 2,388,593 | No change.
State Total | 2,388,593
Mississippi:
Jackson, MS | 292,637 | Reduced in Geographic Area.
Gulfport-Biloxi, MS | 205,754 | New TMA.
State Total | 498,391
Missouri:
St. Louis, MO-IL | 2,077,662 | No change.
Kansas City, MO-KS | 1,361,744 | TMA formed by UA split.
Springfield, MO | 215,004 | New TMA.
State Total | 3,654,410
Montana:
State Total |
Nebraska:
Omaha, NE-IA | 626,623 | No change.
Lincoln, NE | 226,582 | New TMA.
State Total | 853,205
Nevada:
Las Vegas, NV | 1,314,357 | No change.
Reno, NV | 303,689 | No change.
State Total | 1,618,046
New Hampshire:
State Total |
New Jersey:
Atlantic City, NJ | 227,180 | New TMA.
Trenton, NJ | 268,472 | Name Change.
State Total | 495,652
New Mexico:
Albuquerque, NM | 598,191 | No change.
State Total | 598,191
New York:
New York & Newark, NY-NJ-CT | 17,799,861 | Name Change, Reduced in Geographic Area.
Buffalo, NY | 976,703 | Name Change.
Rochester, NY | 694,396 | No change.
Albany, NY | 558,947 | Name Change.
Syracuse, NY | 402,267 | No change.
Poughkeepsie-Newburgh, NY | 351,982 | TMA formed by UA merger with Name Change.
State Total | 20,784,156
North Carolina:
Charlotte, NC-SC | 758,927 | Name Change, Increased in Geographic Area.
Raleigh, NC | 541,527 | No change.
Winston-Salem, NC | 299,290 | New TMA.
Durham, NC | 287,796 | No change.
Fayetteville, NC | 276,368 | No change.
Greensboro, NC | 267,884 | New TMA.
Asheville, NC | 221,570 | New TMA.
State Total | 2,653,362
North Dakota:
State Total |
Ohio:
Cleveland, OH | 1,786,647 | No change.
Cincinnati, OH-KY-IN | 1,503,262 | Name Change, Increased in Geographic Area.
Columbus, OH | 1,133,193 | No change.
Dayton, OH | 703,444 | Increased in Geographic Area.
Akron, OH | 570,215 | Reduced in Geographic Area.
Toledo, OH-MI | 503,008 | No change.
Youngstown, OH-PA | 417,437 | TMA formed by UA merger with Name Change.
Canton, OH | 266,595 | No change.
State Total | 6,883,801
Oklahoma:
Oklahoma City, OK | 747,003 | No change.
Tulsa, OK | 558,329 | No change.
State Total | 1,305,332
Oregon:
Portland, OR-WA | 1,583,138 | Name Change.
Eugene, OR | 224,049 | New TMA.
Salem, OR | 207,229 | New TMA.
State Total | 2,014,416
Pennsylvania:
Philadelphia, PA-NJ-DE-MD | 5,149,079 | TMA formed by UA merger with Name Change.
Pittsburgh, PA | 1,753,136 | No change.
Allentown-Bethlehem, PA-NJ | 576,408 | Name Change.
Scranton, PA | 385,237 | Name Change.
Harrisburg, PA | 362,782 | No change.
Lancaster, PA | 323,554 | New TMA.
Reading, PA | 240,264 | New TMA.
State Total | 8,790,460
Rhode Island:
Providence, RI-MA | 1,174,548 | TMA formed by UA merger with Name Change.
State Total | 1,174,548
South Carolina:
Charleston-North Charleston, SC | 423,410 | Name Change.
Columbia, SC | 420,537 | No change.
Greenville, SC | 302,194 | No change.
State Total | 1,146,141
South Dakota:
State Total |
Tennessee:
Memphis, TN-MS-AR | 972,091 | Name Change.
Nashville-Davidson, TN | 749,935 | Name Change.
Knoxville, TN | 419,830 | No change.
Chattanooga, TN-GA | 343,509 | No change.
State Total | 2,485,365
Texas:
Dallas-Fort Worth-Arlington, TX | 4,145,659 | Name Change.
Houston, TX | 3,822,509 | Increased in Geographic Area.
San Antonio, TX | 1,327,554 | No change.
Austin, TX | 901,920 | No change.
El Paso, TX | 674,801 | No change.
McAllen, TX | 523,144 | Name Change.
Denton-Lewisville, TX | 299,823 | TMA formed by UA merger with Name Change.
Corpus Christi, TX | 293,925 | No change.
Lubbock, TX | 202,225 | New TMA.
State Total | 12,191,560
Utah:
Salt Lake City, UT | 887,650 | Reduced in Geographic Area.
Ogden-Layton, UT | 417,933 | Name Change, Increased in Geographic Area.
Provo-Orem, UT | 303,680 | No change.
State Total | 1,609,263
Vermont:
State Total |
Virginia:
Virginia Beach, VA | 1,394,439 | Name Change, Reduced in Geographic Area.
Richmond, VA | 818,836 | TMA formed by UA merger with Name Change.
State Total | 2,213,275
Washington:
Seattle, WA | 2,712,205 | TMA formed by UA split with UA merger.
Spokane, WA-ID | 334,858 | Name Change.
State Total | 3,047,063
West Virginia:
State Total |
Wisconsin:
Milwaukee, WI | 1,308,913 | No change.
Madison, WI | 329,533 | No change.
State Total | 1,638,446
Wyoming:
State Total |
Puerto Rico:
San Juan, PR | 2,216,616 | TMA formed by UA merger with Name Change.
Aguadilla-Isabella-San Sebastian, PR | 299,086 | New TMA with Name Change.
State Total | 2,515,702
U.S. Totals | 163,700,313
U.S. & Puerto Rico Totals | 166,216,015

[FR Doc. 02-25277 Filed 10-3-02; 8:45 am]

BILLING CODE 4910-22-P